FEDERAL COMMUNICATIONS COMMISSION

Notice of Public Information Collection(s) Being Reviewed by the Federal Communications Commission for Extension Under Delegated Authority

December 15, 2005.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments by February 27, 2006. If you anticipate that you will be submitting comments, but find it difficult to do so within the period of time allowed by this notice, you should advise the contact listed below as soon as possible.

ADDRESSES: You may submit your Paperwork Reduction Act (PRA) comments by e-mail or U.S. postal mail. To submit you comments by e-mail send them to: PRA@fcc.gov. To submit your comments by U.S. mail, mark it to the attention of Judith B. Herman, Federal Communications Commission, 445 12th Street, SW., Room 1-C804, Washington, DC 20554.

FOR FURTHER INFORMATION CONTACT: For additional information about the information collection(s) send an e-mail to PRA@fcc.gov or contact Judith B. Herman at 202-418-0214.

SUPPLEMENTARY INFORMATION: OMB Control No.: 3060-1036.

Title: Potential Reporting Requirements on Local Exchange Carriers (LECs) to Assist Expeditious Implementation of Wireless E911 Service.

Form No.: N/A.

Type of Review: Extension of a currently approved collection.

Respondents: Business or other for-profit.

Number of Respondents: 6 respondents; 24 responses.

Estimated Time Per Response: 8 hours.

Frequency of Response: On occasion reporting requirement.

Total Annual Burden: 192 hours.

Annual Cost Burden: N/A.

Privacy Act Impact Assessment: N/A.

Needs and Uses: This collection will be submitted as an extension (after this 60 day comment period) to OMB in order to obtain the full three year clearance.

In the City of Richardson reconsideration order released November 2002, the Commission indicated its concern about the potential threat to timely wireless E911 deployment posed by a delay or lack of cooperation on the part of the LECs. To ensure that LECs timely perform their role in the successful deployment of wireless E911 services, the Commission gathers information, on a periodic basis, from six of the nation's largest Local Exchange Carriers (LECs) regarding the status of their efforts in connection with wireless E911 deployment. The information will be used by the Commission to determine whether the LECs are meeting their responsibilities to provide access to, and interconnection with, their networks for E911 purposes.

OMB Control No.: 3060-0910.

Title: Third Report and Order in CC Docket No. 94-102, Revision of the Commission's Rules to Ensure Compatibility with Enhanced 911 Emergency Calling Systems.

Form No.: N/A.

Type of Review: Extension of a currently approved collection.

Respondents: Business or other for profit and not-for-profit institutions.

Number of Respondents: 4,000 respondents; 8,000 responses.

Estimated Time Per Response: 1 hour.

Frequency of Response: On occasion reporting requirement.

Total Annual Burden: 4,000 hours.

Annual Cost Burden: N/A.

Privacy Act Impact Assessment: N/A.

Needs and Uses: This collection will be submitted as an extension (after this 60 day comment period) to OMB in order to obtain the full three year clearance.

Commission rules allows wireless carriers to permit the use of handset-based solutions, or hybrid solutions that require changes both to handsets and wireless networks, in providing caller location information as part of enhanced 911 services. Those rules also require carriers to report changes in their deployment plans. The information in these reports will provide public service answering points (PSAPs), providers of location technology, investors, manufacturers, local exchange carriers (LECs), and the Commission with valuable information necessary for preparing for full Phase II E911 implementation. These reports will provide helpful, if not essential information, for coordinating carrier plans with those manufacturers and PSAPs. It will also assist the Commission's efforts to monitor Phase II developments and to take necessary actions to maintain the Phase II implementation schedule.

OMB Control No.: 3060-1027.

Title: Section 27.602, Guard Band Manager Agreements.

Form No.: N/A.

Type of Review: Extension of a currently approved collection.

Respondents: Business or other for profit.

Number of Respondents: 62.

Estimated Time Per Response: 6 hours.

Frequency of Response: On occasion reporting requirement, third party disclosure requirement and recordkeeping requirement.

Total Annual Burden: 372 hours.

Annual Cost Burden: N/A.

Privacy Act Impact Assessment: N/A.

Needs and Uses: This collection will be submitted as an extension (after this 60 day comment period) to OMB in order to obtain the full three year clearance.

The Commission adopted service rules for 27 megahertz of electromagnetic spectrum in the 216-220 MHz, 1390-1395 MHz, 1427-1429.5 MHz, 1429.5-1432 MHz, 1432-1435 MHz, 1670-1675 MHz, and 2385-2390 MHz bands, which have been reallocated for non-Government use. The service rules adopted establish a flexible regulatory and licensing framework. The Commission believes that this decision will provide opportunities for new services to utilize this spectrum, thus addressing spectrum scarcity concerns, as well as to promote the delivery of technologically innovative services to the public. The originally exempt frequencies of Private Land Mobile licensees are now required to obtain guard band manager agreements with other licensees who plan on using their licensed spectrum. Guard Band Managers are required to enter into written agreements regarding the use of their licensed spectrum by others, subject to certain conditions outlined in Commission rules, and retain such records for at least two years after the date such agreements expire. Such records need to be kept current and be made available upon request for inspection by the Commission or its representatives.

OMB Control No.: 3060-0400.

Title: Tariff Review Plan.

Form No.: N/A.

Type of Review: Extension of a currently approved collection.

Respondents: Business or other for profit.

Number of Respondents: 40.

Estimated Time Per Response: 61 hours.

Frequency of Response: Biennial and annual reporting requirements.

Total Annual Burden: 2,440 hours.

Annual Cost Burden: N/A.

Privacy Act Impact Assessment: N/A.

Needs and Uses: This collection will be submitted as an extension (after this 60 day comment period) to OMB in order to obtain the full three year clearance.

Certain local exchange carriers are required to submit a biennial or annual Tariff Review Plan in partial fulfillment of cost support material required by 47 CFR part 61. The information is used by FCC and the public to determine the justness and reasonableness of rates, terms and conditions in tariffs as required by the Communications Act of 1934, as amended.

OMB Control No.: 3060-0514.

Title: Section 43.21(b), Holding Company Annual Report.

Form No.: N/A.

Type of Review: Extension of a currently approved collection.

Respondents: Business or other for profit.

Number of Respondents: 17.

Estimated Time Per Response: 1 hour.

Frequency of Response: Annual reporting requirement.

Total Annual Burden: 17 hours.

Annual Cost Burden: N/A.

Privacy Act Impact Assessment: N/A.

Needs and Uses: This collection will be submitted as an extension (after this 60 day comment period) to OMB in order to obtain the full three year clearance.

The filing of SEC Form 10-K is required by section 1.785 and 43.21(b) of the Commission's rules and authorized by section 219 of the Communications Act of 1934, as amended. Each company, not itself a communications common carrier, that directly or indirectly controls any communications common carrier having annual revenues equal to or above the indexed revenue threshold, as defined in section 32.9000, shall file annually with the Commission, not later than the date prescribed by Security and Exchange Commission (SEC), for its purposes, two complete copies of any SEC Form 10-K annual report (or any superseding form) filed with that Commission.

The information filed pursuant to section 43.21(b) is used by staff members to regulate and monitor the telephone industry and by the public to analyze the industry. Selected information is compiled and published in the Commission's annual common carrier statistical publication.

OMB Control No.: 3060-0755.

Title: Sections 59.1 through 59.4, Infrastructure Sharing.

Form No.: N/A.

Type of Review: Extension of a currently approved collection.

Respondents: Business or other for profit.

Number of Respondents: 75.

Estimated Time Per Response: 2-24 hours.

Frequency of Response: On occasion reporting requirement and third party disclosure requirement.

Total Annual Burden: 2,325 hours.

Annual Cost Burden: N/A.

Privacy Act Impact Assessment: N/A.

Needs and Uses: This collection will be submitted as an extension (after this 60 day comment period) to OMB in order to obtain the full three year clearance.

Section 259 requires incumbent local exchange carriers (LECs) to file any arrangements showing the conditions under which they share infrastructure. Section 259 also requires incumbent LECs to provide information on deployments of new services and equipment to qualifying carriers. Finally, the Commission requires incumbent LECs to provide 60 day notice prior to terminating section 259 agreements.

The Commission uses the information in the following ways: (1) The information collected under the requirement that LECs file any tariffs, contracts or other arrangements for infrastructure sharing will be made available for public inspection; (2) the information collected under the requirement that incumbent LECs provide timely information on planned deployments of new services and equipment will be provided to third parties (qualifying carriers); and (3) the information collected under the requirement that providing incumbent LECs furnish 60 days notice prior to termination of a section 259 sharing agreement will be provided to third parties, i.e., qualifying carriers, to protect customers from sudden changes in service.

Federal Communications Commission.
Marlene H. Dortch,
Secretary.

[FR Doc. E5-7873 Filed 12-27-05; 8:45 am]

BILLING CODE 6712-01-P